DEPARTMENT OF TRANSPORTATION

Federal Aviation Administration

14 CFR Part 71

[Docket No. FAA-2023-0061; Airspace Docket No. 22-ASO-10]

RIN 2120-AA66

Amendment and Revocation of Air Traffic Service (ATS) Routes in the Eastern United States

AGENCY: Federal Aviation Administration (FAA), DOT.

ACTION: Final rule.

SUMMARY: This action amends Very High Frequency (VHF) Omnidirectional Range (VOR) Federal Airways V-51, V-115, V-243, V-267, V-311, V-333, and V-415; and removes V-463 in support of the FAA's VOR Minimum Operational Network (MON) Program.

DATES: Effective date 0901 UTC, June 15, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System (NAS).

History

The FAA published a notice of proposed rulemaking for Docket No. FAA-2023-0061 in the Federal Register (88 FR 7897; February 7, 2023), amending seven, and revoking one, VOR Federal airways in the eastern United States. Interested parties were invited to participate in this rulemaking effort by submitting written comments on the proposal. One comment was received.

An anonymous commenter wrote expressing strong support of the push for satellite navigation, but stated they did not agree with the removal of victor airways in the Chicago area. The only airway in this rule that approaches the Chicago area is V-51 which ends at Chicago Heights, IL. That segment of V-51 is not being removed, and it remains available for navigation.

Incorporation by Reference

Domestic VOR Federal airways are published in paragraph 6010(a) of FAA Order JO 7400.11, Airspace Designations and Reporting Points, which is incorporated by reference in 14 CFR 71.1 on an annual basis. This document amends the current version of that order, FAA Order JO 7400.11G, dated August 19, 2022 and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by modifying VOR Federal Airways V-51, V-115, V-243, V-267, V-311, V-333, and V-415; and revoking V-463 in support of the FAA's VOR MON Program. This program aims to improve the efficiency of the NAS by transitioning from ground-based navigation systems to satellite based navigation. The changes are described as follows:

V-51: V-51 consists of two parts: From Pahokee, FL to Louisville, KY; and from Shelbyville, IN, to Chicago Heights, IL. This action removes Alma, GA; Athens, GA; and Harris, GA, from the route. As a result, V-51 consists of three parts: From Pahokee, FL, to Craig, FL; From Hinch Mountain, TN, to Louisville, KY; and From Shelbyville, TN to Chicago Heights, IL.

V-115: V-115 consists of two parts: From Crestview, FL, to Volunteer, TN; and from Charleston, WV, to Parkersburg, WV. This action removes the segment from the BOAZE, AL, Fix to the Choo Choo, TN (GQO), VOR with Tactical Air Navigational System (VORTAC), to the DUBBS, TN, Fix, which is dependent on the Choo Choo, TN, VORTAC. As amended, V-115 extends, in three parts: From Crestview, FL, to the intersection of the of the Vulcan, AL 048°(T)/046°(M) and the Gadsden, AL 333°(T)/331°(M) radials (the charted BOAZE, AL) Fix; From the Intersection of the Hinch Mountain, TN 160°(T)/162°(M) and the Volunteer, TN 228°(T)/231°(M) radials to Volunteer; and From Charleston, WV, to Parkersburg, WV.

V-243: V-243 extends from Craig, FL, to Choo Choo, TN. This action removes the segment from the intersection of the LaGrange, GA 342° and the Choo Choo, TN 189° radials (the charted HEFIN, AL, Fix) to Choo Choo due to the planned decommissioning of the Choo Choo, TN (GQO), VORTAC. The HEFIN, AL, Fix is redefined by replacing the Choo Choo radial with the Gadsden, AL, Non-Directional Beacon/Distance Measuring Equipment (NDB/DME) 124°(T)/122°(M) radial. Because this is a new radial, both True and Magnetic values were cited in the NPRM. As amended, V-243 extends from Craig, FL, to the intersection of the LaGrange, GA 342° and the Gadsden, AL, 124°(T)/122°(M) radials (the HEFIN, AL, Fix).

V-267: V-267 extends from Dolphin, FL, to Volunteer, TN. This action removes the segments from Dolphin, FL, to Pahokee, FL. In addition, the Harris, GA (HRS), VORTAC and the Volunteer, TN (VXV), VORTAC are removed from the route. As amended, V-267 extends from Orlando, FL, to the charted CORCE, GA, Fix. The CORCE, GA, Fix is currently defined in the V-267 description as the intersection of the Athens, GA, 340° and the Harris, GA, 148° radials. Due to the removal of the Harris, GA (HRS), VORTAC, the Harris radial is replaced in the description by the Rome, GA 077°(T)/076°(M) radial.

V-311: V-311 extends from Hinch Mountain, TN, to Charleston, SC. This action removes the segments from Electric City, SC, to Charleston, SC. As amended, V-311 extends from Hinch Mountain, TN, to Electric City, SC.

V-333: V-333 extends from the intersection of the Rome, GA 133° and the Gadsden, AL 091° radials to Lexington, KY. The action removes the Choo Choo, TN (GQO), VORTAC from the route. As amended, V-333 consists of two parts: From the intersection of the Rome, GA, and Gadsden, AL, radials identified in the previous sentence to Rome, GA; and From Hinch, Mountain, TN, to Lexington, KY.

V-415: V-415 extends from Montgomery, AL, to the intersection of the Spartanburg, SC, 101° and the Charlotte, NC, 229° radials. This action removes the segments from the HEFIN, AL, Fix, to the NELLO, GA, Fix. As amended, V-415 consists of two parts: From Montgomery, AL, to the intersection of the Montgomery 029°(T)/026°(M) and the Gadsden, AL, 124°(T)/122°(M) radials; and From the intersection of the Rome, GA, 060° and the Foothills, SC, 258° radials, to the intersection of the Spartanburg, SC, 101° and the Charlotte, NC, 229° radials.

V-463: V-463 is a 49 nautical mile long route that extends from the intersection of the Harris, GA, 179° and the Foothills, SC, 222° radials, to Harris, GA. This action removes the entire route to support the scheduled decommissioning of the Harris, GA (HRS), VORTAC.

Full descriptions of the above amended routes are listed in the amendments to part 71 set forth below. Where new radials are used in a route description, the preamble includes both True and Magnetic degrees. However, only True degrees are stated in the regulatory text.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA determined that this action qualifies for categorical exclusion under the National Environmental Policy Act in accordance with FAA Order 1050.1F, “Environmental Impacts: Policies and Procedures,” paragraph 5-6.5.a., and 5-6.5.b. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G Airspace Designations and Reporting Points, dated August 19, 2022, and effective September 15, 2022, is amended as follows:

Paragraph 6010(a) Domestic VOR Federal Airways.

* * * * *

V-51 [Amended]

From Pahokee, FL; INT Pahokee 010°and Treasure, FL, 193° radials; Treasure; INT Treasure 330° and Ormond Beach, FL, 183° radials; Ormond Beach; to Craig, FL. From Hinch Mountain, TN; Livingston, TN; to Louisville, KY. From Shelbyville, IN; INT Shelbyville 313° and Boiler, IN, 136° radials; Boiler; to Chicago Heights, IL.

* * * * *

V-115 [Amended]

From Crestview, FL; INT Crestview 001° and Montgomery, AL, 204° radials; Montgomery; INT Montgomery 323° and Vulcan, AL, 177° radials; Vulcan; to INT Vulcan 048° and Gadsden, AL 333° radials. From INT Hinch Mountain, TN, 160° and Volunteer, TN, 228° radials; to Volunteer. From Charleston, WV; to Parkersburg, WV.

* * * * *

V-243 [Amended]

From Craig, FL; Waycross, GA; Vienna, GA; LaGrange, GA; to INT LaGrange 342° and Gadsden, AL, 124° radials.

* * * * *

V-267 [Amended]

From Orlando, FL; Craig, FL; Dublin, GA; Athens, GA; to INT Athens 340° and Rome, GA, 077° radials.

* * * * *

V-311 [Amended]

From Hinch Mountain, TN; INT Hinch Mountain 160° and Electric City, SC, 274° radials; to Electric City.

* * * * *

V-333 [Amended]

From INT Rome, GA, 133° and Gadsden, AL, 091° radials to Rome. From Hinch Mountain, TN; to Lexington, KY.

* * * * *

V-415 [Amended]

From Montgomery, AL, to INT Montgomery 029°and Gadsden, AL, 124° radials. From INT Rome 060° and Foothills, SC, 258° radials; Foothills; Spartanburg, SC; to INT Spartanburg 101° and Charlotte, NC, 229° radials.

* * * * *

V-463 [Removed]

* * * * *

Issued in Washington, DC, on April 10, 2023.
Brian Konie,
Acting Manager, Airspace Rules and Regulations.

[FR Doc. 2023-07888 Filed 4-17-23; 8:45 am]

BILLING CODE 4910-13-P